DEPARTMENT OF THE TREASURY

Submission for OMB Review; Comment Request

July 10, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 16, 2006 to be assured of consideration.

Internal Revenue Service (IRS)

OMB Number: 1545-2009.

Type of Review: Extension.

Title: Reducing Tax Burden on America's Taxpayers.

Description: The IRS Office of Taxpayer Burden Reduction (TBR) needs the taxpaying public's help to identify meaningful taxpayer burden reduction opportunities that impact a large number of taxpayers. This form should be used to refer ideas for reducing taxpayer burden to the TBR for consideration and implementation.

Respondents: Business or other for-profit, individuals and households, not-for-profit institutions, state, local or tribal governments, and farms.

Estimated Total Burden Hours: 62 hours.

OMB Number: 1545-2011.

Type of Review: Extension.

Title: Certification of Intent to Adopt a Pre-Approved Plan.

Form: 8905.

Description: Form 8905 is used to treat an employer's plan as a pre-approved plan and therefore eligible for the six-year remedial amendment cycle of Part IV of Revenue Procedure 2005-66, 2005-37 IRB 509. This form is filed with other documents.

Respondents: Business or other for-profit and not-for-profit institutions.

Estimated Total Burden Hours: 110,490 hours.

OMB Number: 1545-1850.

Type of Review: Extension.

Title: COREG-140930-02 (Final) Testimony or Production of Records in a Court or Other Proceeding.

Description: A written statement required by a party seeking testimony or disclosure of IRS records or information in a non-IRS matter.

Respondents: Business or other for-profit, individuals or households, not-for-profit institutions, farms.

Estimated Total Burden Hours: 1,400 hours.

OMB Number: 1545-0162.

Type of Review: Revision.

Title: Credit for Federal Tax Paid on Fuels.

Form: Form 4136.

Description: Internal Revenue Code section 34 allows a credit for Federal excise tax for certain fuel uses. This form is used to figure the amount of the income tax credit. The data is used to verify the claim for the type of nontaxable or exempt use.

Respondents: Business or other for-profit, individuals and households.

Estimated Total Burden Hours: 9,822,578 hours.

OMB Number: 1545-1998.

Type of Review: Extension.

Title: Alternative Motor Vehicle Tax Credit.

Form: Form 8910.

Description: Taxpayers will use Form 8910 to claim the credit for certain alternative motor vehicles placed in service after 2005.

Respondents: Business or other for-profit, individuals and households, not-for-profit institutions, farms, Federal government, and state and local governments.

Estimated Total Burden Hours: 98,800 hours.

OMB Number: 1545-0046.

Type of Review: Extension.

Title: Reduction of Tax Attributes Due to Discharge of Indebtedness (and Section 1082 Basis Adjustment).

Form: Form 982.

Description: Internal Revenue Code section 108 allows taxpayers to exclude from gross income amounts attributable to discharge of indebtedness in title 11 cases, insolvency, or a qualified farm indebtedness. Code section 1081(b) allows corporations to exclude from gross income amounts attributable to certain transfers of property. The data is used to verify adjustments to basis of property and reductions of tax attributes.

Respondents: Business or other for-profit, individuals and households, farms, Federal, state, local, and tribal governments.

Estimated Total Burden Hours: 7,171 hours.

OMB Number: 1545-0215.

Type of Review: Extension.

Title: Form 5712, Election to be treated as a possessions corporation under section 936; Form 5712-A, election and verification of the cost sharing or profit split method under section 936(h)(5).

Form: Forms 5712 and 5712-A.

Description: Domestic corporations may elect to be treated as possessions corporations of Form 5712. This election allows the corporations to take a tax credit. Possession corporations may elect on Form 5712-A to share their taxable income with their affiliates under Internal Revenue Code section 936(h)(5). These forms are used by the IRS to ascertain if corporations are entitled to the credit and if they may share their taxable income with their affiliates.

Respondents: Business or other for-profit, farms, Federal, state, local, and tribal governments.

Estimated Total Burden Hours: 7,037 hours.

OMB Number: 1545-2001.

Type of Review: Extension.

Title: Rev. Proc. 2006-16, Renewal Community Depreciation Provisions.

Description: This revenue procedure provides the time and manner for states to make retroactive allocations of commercial revitalization expenditure amounts to certain buildings placed in service in the expanded area of a renewal community pursuant to 1400E(g) of the Internal Revenue Code.

Respondents: Business or other for-profit, state, local, and tribal governments.

Estimated Total Burden Hours: 150 hours.

OMB Number: 1545-1674.

Type of Review: Extension.

Title: Revenue Procedure 2005-16 (Master and Prototype and Volume Submitter Plans).

Description: The master and prototype and volume submitter revenue procedure sets for the procedures for sponsors of master and prototype and volume submitter pension, profit-sharing and annuity plans to request an opinion letter or an advisory letter from the Internal Revenue Service that the form of a mater prototype plan or volume submitter plan meets the requirements of section 401(a) of the Internal Revenue Code.

Respondents: Business or other for-profit, individuals and households, not-for-profit institutions, farms, state, local and tribal governments.

Estimated Total Burden Hours: 1,058,850 hours.

OMB Number: 1545-2002.

Type of Review: Extension.

Title: Notice 2006-25, Qualifying Gasification Project Program.

Description: This notice establishes the qualifying project program under 48B of the Internal Revenue Code. The notice provides the time and manner for a taxpayer to apply for an allocation of qualifying gasification project credits.

Respondents: Business or other for-profit.

Estimated Total Burden Hours: 1,700 hours.

Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E6-11151 Filed 7-14-06; 8:45 am]

BILLING CODE 4830-01-P